DEPARTMENT OF THE INTERIOR

Bureau of Land Management

[DOI-BLM-NV-W010-2020-0030-EIS; LLNVW01000.L51100000.GN0000. LVEMF1907180.19XMO#4500153666]

Notice of Availability of the Final Environmental Impact Statement for the Proposed Gold Acquisition Corporation—Relief Canyon Gold Mine—Mine Expansion Amendment, Pershing County, NV

AGENCY: Bureau of Land Management, Interior.

ACTION: Notice of availability.

SUMMARY: In accordance with the National Environmental Policy Act of 1969, as amended, and the Federal Land Policy and Management Act of 1976, as amended, the Bureau of Land Management (BLM) Humboldt River Field Office, Winnemucca, Nevada has prepared the Relief Canyon Mine Final Environmental Impact Statement (EIS) for the proposed expansion to the Relief Canyon gold mining operation in Pershing County, Nevada, and by this notice announces the availability of the Final EIS.

DATES: The BLM will not issue a final decision on the proposal for a minimum of 30-days after the Environmental Protection Agency publishes its notice of availability of the Gold Acquisition Corporation—Relief Canyon Gold Mine—Mine Expansion Amendment Final EIS DOI-BLM-NV-W010-2020-0030-EIS in the Federal Register.

ADDRESSES: Copies of the Relief Canyon Mine Plan Expansion and the Final EIS are available for public inspection on the internet at https://eplanning.blm.gov/eplanning-ui/project/2000567/510.

FOR FURTHER INFORMATION CONTACT: Ms. Jeanette “Jean” Black; telephone: (775) 623-1500; email: jblack@blm.gov; address: 5100 E Winnemucca Blvd., Winnemucca, NV 89445. Persons who use a telecommunications device for the deaf (TDD) may call the Federal Relay Service (FRS) at 1-800-877-8339 to contact Ms. Black during normal business hours. The FRS is available 24-hours a day, 7-days a week, to leave a message or question. You will receive a reply during normal business hours.

SUPPLEMENTARY INFORMATION: Gold Acquisition Corporation (GAC), a wholly owned subsidiary of Pershing Gold Corporation, itself a wholly owned subsidiary of Americas Gold and Silver Corporation, proposes an expansion to the existing Relief Canyon Gold Mine. The mine is located in Pershing County, Nevada, approximately 16 miles east-northeast of Lovelock, Nevada. The proposed expansion is located within GAC's authorized Plan of Operations boundary and proposes to modify the existing Plan of Operations as follows:

• Create roughly 576 acres of new surface disturbance on public and private land including re-disturbance of about 137 acres of previously disturbed vegetation communities.

• Expand the footprint of the existing approved pit area by approximately 84 acres (68 acres of public land and 16 acres of private land) with resultant elimination of a portion of existing Waste Rock Storage Facility (WRSF) 4.

• Mine to final pit bottom elevation of 4,420 feet above mean sea level (ft amsl), which will involve continued mining below the water table, and result in a post-mining pit lake that is predicted to reach an equilibrium elevation of 4,887 ft amsl roughly 50 years after completion of mining.

• Construct a dewatering conveyance pipeline and Rapid Infiltration to re-infiltrate up to 900 gallons per minute of mine dewatering water during the last 3 months of proposed mining.

• Install up to 50 vertical and horizontal drains in the pit wall to ensure pit slope stability and supplement pit dewatering operations.

• Convert up to 50 exploration drill holes located in and adjacent to the pit as vertical or near vertical drains and/or piezometer to monitor water levels to ensure pit slope stability and supplement pit dewatering operations.

• Expand WRSFs, heap leach pads, and construct process ponds, new growth media stockpiles, diversion ditches for stormwater control, and ancillary facilities.

• Expand yard and crusher-conveyor areas, roads, and fences.

• Close and reclaim all project facilities at the completion of the Project.

Final EIS

The Final EIS describes and analyzes the proposed project's direct, indirect, and cumulative impacts on all affected resources. The EIS analyzed the Proposed Action (Alternative A) and the No Action Alternative (Alternative B).

A Notice of Availability (NOA) of the Draft EIS for the proposed Project was published in the Federal Register on February 19, 2021 (86 FR 5246). Two virtual public meetings were held during the comment period. The BLM received 12 public comment documents during the 45-day comment period. The documents contained 70 individual comments with 36 substantive comments, which included concerns on potential impacts from the pit lake, groundwater quantity and quality, springs in the area near the mine, management of waste rock, rapid infiltration basins, and heap leach facilities, wildlife habitat loss, greater sage-grouse, golden eagles, pale kangaroo mice, and horses. These comments were considered and addressed in Appendix D (draft EIS Public Comments and Responses) of the Final EIS.

Comments on the Draft EIS received from the public and internal BLM review were considered and incorporated, as appropriate, into the Final EIS. Public comments resulted in corrections or the addition of clarifying text but did not significantly change the proposed action.

The BLM has consulted with the Nevada State Historic Preservation Office (SHPO) on the Project in accordance with the 2014 State Protocol Agreement between the BLM and Nevada SHPO for Implementing the National Historic Preservation Act. The BLM has determined that the Project would have no adverse effects to historic properties and the Nevada SHPO has concurred.

The BLM has consulted and continues to consult with Native American tribes on a government-to-government basis in accordance with Executive Order 13175 and other policies. Tribal concerns, including impacts on Indian trust assets and potential impacts to cultural resources, will be given due consideration.

(Authority: 40 CFR 1501.7)

Ester M. McCullough,
District Manager, Winnemucca District Office.

[FR Doc. 2021-18004 Filed 8-20-21; 8:45 am]

BILLING CODE 4310-HC-P